DEPARTMENT OF TRANSPORTATION

Pipeline And Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 16, 2010.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, S.E., Washington DC or at http://regulations.gov.

This notice of receipt of applications for special permit is published in accordance with Part 107 of the Federal hazardous materials transportation law (49 U.S.C. 5117(b); 49 CFR 1.53(b)).

Issued in Washington, DC, on November 9, 2010.
Donald Burger,
Chief, Special Permits and Approvals Branch.

Application No. | Docket No. | Applicant | Regulation(s) affected | Nature of special permits thereof
15165-N |  | Kidde Aerospace & Defense Wilson, NC | 49 CFR 173.302, 173.302a, and 178.47 | To authorize the Aerospace 173.302a, and manufacture, marking, & Defense 178.47 sale, and use of non-DOT WILSON, NC specification cylinders similar to DOT 4DS cylinders for use as fire extinguishers aboard aircraft. (modes 1, 2, 3, 4, 5).
15166-N |  | Papillon Airways, Inc. Grand Canyon, AZ | 49 CFR 172.101 Column 8(c), 173.241 and 173.242 | To authorize the transportation in commerce of gasoline in non-Dot specification containers when transported in sling load operations. (mode 4).
15179-N |  | Digital Wave Corporation Englewood, CO | 49 CFR 180.209 | To authorize the transportation in commerce of certain hazardous materials in DOT Specification 3AL cylinders manufactured from aluminum alloy 6061-T6 that are requalified every ten years rather than every five years using 100% ultrasonic examination. (modes 1, 2, 3, 4, 5).
15180-N |  | Roche Diagnostics Corporation Indianapolis, IN | 49 CFR 173.242(e)(1) | To authorize the transportation in commerce of certain PG II corrosive liquids in UN 50G fiberboard large packagings by motor vehicle. (mode 1).
15181-N |  | JBI Helicopter | 49 CFR 172.101 Column (9B), 172.204(c)(3), 173.27(b)(2), 175.30(a)(1), 172.200, 172.300 and 172.400 | To authorize the transportation in commerce of certain hazardous materials by external load on helicopter in remote areas of the US without being subject to hazard communication requirements and quantity limitations where no other means of transportation is available. (mode 4).
15182-N |  | BASF Corporation Florham Park, NJ | 49 CFR 73.4a(b) | To authorize the transportation in commerce of an Oxidizing solid, water-reactive as an excepted quantity. (modes 1, 2, 4).
15183-N |  | Jack Oldham Oil Co. Inc | 49 CFR 173.315(m) | To authorize the transportation in commerce of anhydrous ammonia in non-DOT specification cargo tanks (nurse tanks) when transported to refineries for purposes of pollution control by motor vehicle within a 50 mile radius. (mode 1).

[FR Doc. 2010-28739 Filed 11-15-10; 8:45 am]

BILLING CODE 4909-60-M